ENVIRONMENTAL PROTECTION AGENCY

[OPP-2002-0114; FRL-7183-4]

Exposure Modeling Work Group; Notice of Public Meeting

AGENCY: Environmental Protection Agency (EPA).

ACTION: Notice.

SUMMARY: The Exposure Modeling Work Group (EMWG) will hold a 1-day meeting on June 18, 2002. This notice announces the location and time for the meeting and sets forth the tentative agenda topics.

DATE: The meeting will be held on June 18, 2002, from 9 a.m. to 3 p.m.

ADDRESSES: This meeting will be held at the George Washington Carver Center, Room 4223, 5601 Sunnyside Ave., Beltsville, MD.

FOR FURTHER INFORMATION CONTACT: James N. Carleton, Environmental Fate and Effects Division (7507C), Office of Pesticide Programs, Environmental Protection Agency, 1200 Pennsylvania Ave., NW., Washington, DC 20460; telephone number: (703) 305-5736; fax number: (703) 308-6309; e-mail address: carleton.jim@epa.gov.

SUPPLEMENTARY INFORMATION:

I. General Information

A. Does this Action Apply to Me?

This action is directed to the public in general. This action may, however, be of interest to Tribes with pesticide programs or pesticide interests. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov. To access this document, on the Home Page select “Laws and Regulations,” “Regulations and Proposed Rules,” and then look up the entry for this document under the “Federal Register—Environmental Documents.” You can also go directly to the Federal Register listings at http://www.epa.gov/fedrgstr.

2. In person. The Agency has established an official record for this action under docket ID number OPP-2002-0114. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Tentative Agenda:

This unit provides tentative agenda topics for the 1-day meeting.

1. Welcome and introductions.

2. Old action items.

3. Discussion of purpose of EMWG.

4. Update on screening concentration in ground water (SCI-GROW).

5. Update on basin-scale modeling.

6. Fate database structure.

7. Rice modeling and new Environmental Fate Effects Division Model.

8. Update on Watershed Regression for Pesticides (WARP).

9. Overview of EFED's procedure for developing new scenarios.

List of Subjects

Environmental protection, Pesticides and pests.

Dated: June 5, 2002.
Elizabeth Leovey,
Acting Director, Environmental Fate and Effects Division, Office of Pesticide Programs.

[FR Doc. 02-14618 Filed 6-6-02; 1:50 pm]

BILLING CODE 6560-50-S